DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) extension of a current information collection. The Federal Register Notice with a 60-day comment period soliciting comments on the following collection of information was published on March 8, 2010, vol. 75, no. 44, page 10550. A letter of application and related documents which set forth an applicant's ability to conduct operations in compliance with FAR Part 125 provisions are submitted to the appropriate FSDO.

DATES: Please submit comments by July 7, 2010.

FOR FURTHER INFORMATION CONTACT: Carla Scott at Carla.Scott@faa.gov.

SUPPLEMENTARY INFORMATION:

Federal Aviation Administration (FAA)

Title: Certification and Operation FAR 125.

Type of Request: Extension without change of a currently approved collection.

OMB Control Number: 2120-0085.

Forms(s): There are no FAA forms associated with this collection.

Affected Public: An estimated 163 Respondents.

Frequency: This information is collected on occasion.

Estimated Average Burden Per Response: Approximately 1.33 hours per response.

Estimated Annual Burden Hours: An estimated 61,388 hours annually.

Abstract: Part A of Subtitle VII of the Revised Title 49 United States Code authorizes the issuance of regulations governing the use of navigable airspace. 14 CFR Part 125 prescribes requirements for leased aircraft, Aviation Service Firms, and Air Travel. A letter of application and related documents which set forth an applicant's ability to conduct operations in compliance with the Part 125 provisions are submitted to the appropriate Flight Standards District Office. Inspectors in FAA FSDO's review the submitted information to determine eligibility.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202)395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on May 28, 2010.
Carla Scott,
FAA Information Collection Clearance Officer, IT Enterprises Business Services Division, AES-200.

[FR Doc. 2010-13590 Filed 6-4-10; 8:45 am]

BILLING CODE 4910-13-P